DEPARTMENT OF ENERGY

Federal Energy Regulatory Commission

Combined Notice of Filings #2

Take notice that the Commission received the following electric rate filings:

Docket Numbers: ER25-2918-000.

Applicants: Cimarron Bend Wind Project I, LLC.

Description: 205(d) Rate Filing: Cimarron Bend Wind Project I, LLC Revised MBR Tariff to be effective 7/23/2025.

Filed Date: 7/22/25.

Accession Number: 20250722-5055.

Comment Date: 5 p.m. ET 8/12/25.

Docket Numbers: ER25-2919-000.

Applicants: Cimarron Bend Wind Project II, LLC.

Description: 205(d) Rate Filing: Cimarron Bend Wind Project II, LLC Revised MBR Tariff to be effective 7/23/2025.

Filed Date: 7/22/25.

Accession Number: 20250722-5056.

Comment Date: 5 p.m. ET 8/12/25.

Docket Numbers: ER25-2920-000.

Applicants: Cimarron Bend Wind Project III, LLC.

Description: 205(d) Rate Filing: Cimarron Bend Wind Project III, LLC Revised MBR Tariff to be effective 7/23/2025.

Filed Date: 7/22/25.

Accession Number: 20250722-5057.

Comment Date: 5 p.m. ET 8/12/25.

Docket Numbers: ER25-2921-000.

Applicants: Drift Sand Wind Project, LLC.

Description: 205(d) Rate Filing: Drift Sand Wind Project, LLC Revised MBR Tariff to be effective 7/23/2025.

Filed Date: 7/22/25.

Accession Number: 20250722-5058.

Comment Date: 5 p.m. ET 8/12/25.

Docket Numbers: ER25-2922-000.

Applicants: Enel Green Power Diamond Vista Wind Project, LLC.

Description: 205(d) Rate Filing: Enel Diamond Vista Wind Project LLC Revised MBR Tariff to be effective 7/23/2025.

Filed Date: 7/22/25.

Accession Number: 20250722-5062.

Comment Date: 5 p.m. ET 8/12/25.

Docket Numbers: ER25-2923-000.

Applicants: Enel Green Power Hilltopper Wind, LLC.

Description: 205(d) Rate Filing: Enel Green Power Hilltopper Wind, LLC Revised MBR Tariff to be effective 7/23/2025.

Filed Date: 7/22/25.

Accession Number: 20250722-5066.

Comment Date: 5 p.m. ET 8/12/25.

Docket Numbers: ER25-2924-000.

Applicants: Enel Green Power Rattlesnake Creek Wind Project, LLC.

Description: 205(d) Rate Filing: Enel Rattlesnake Creek Wind Project, LLC Revised MBR Tariff to be effective 7/23/2025.

Filed Date: 7/22/25.

Accession Number: 20250722-5069.

Comment Date: 5 p.m. ET 8/12/25.

Docket Numbers: ER25-2925-000.

Applicants: Goodwell Wind Project, LLC.

Description: 205(d) Rate Filing: Goodwell Wind Project, LLC Revised MBR Tariff to be effective 7/23/2025.

Filed Date: 7/22/25.

Accession Number: 20250722-5070.

Comment Date: 5 p.m. ET 8/12/25.

Docket Numbers: ER25-2926-000.

Applicants: Lindahl Wind Project, LLC.

Description: 205(d) Rate Filing: Lindahl Wind Project, LLC Revised MBR Tariff to be effective 7/23/2025.

Filed Date: 7/22/25.

Accession Number: 20250722-5071.

Comment Date: 5 p.m. ET 8/12/25.

Docket Numbers: ER25-2927-000.

Applicants: Little Elk Wind Project, LLC.

Description: 205(d) Rate Filing: Little Elk Wind Project, LLC Revised MBR Tariff to be effective 7/23/2025.

Filed Date: 7/22/25.

Accession Number: 20250722-5072.

Comment Date: 5 p.m. ET 8/12/25.

Docket Numbers: ER25-2928-000.

Applicants: Osage Wind, LLC.

Description: 205(d) Rate Filing: Osage Wind, LLC Revised MBR Tariff to be effective 7/23/2025.

Filed Date: 7/22/25.

Accession Number: 20250722-5075.

Comment Date: 5 p.m. ET 8/12/25.

Docket Numbers: ER25-2929-000.

Applicants: Prairie Rose Wind, LLC.

Description: 205(d) Rate Filing: Prairie Rose Wind, LLC Revised MBR Tariff to be effective 7/23/2025.

Filed Date: 7/22/25.

Accession Number: 20250722-5076.

Comment Date: 5 p.m. ET 8/12/25.

Docket Numbers: ER25-2930-000.

Applicants: Red Dirt Wind Project, LLC.

Description: 205(d) Rate Filing: Red Dirt Wind Project, LLC Revised MBR Tariff to be effective 7/23/2025.

Filed Date: 7/22/25.

Accession Number: 20250722-5077.

Comment Date: 5 p.m. ET 8/12/25.

Docket Numbers: ER25-2931-000.

Applicants: Rock Creek Wind Project, LLC.

Description: 205(d) Rate Filing: Rock Creek Wind Project, LLC Revised MBR Tariff to be effective 7/23/2025.

Filed Date: 7/22/25.

Accession Number: 20250722-5079.

Comment Date: 5 p.m. ET 8/12/25.

Docket Numbers: ER25-2932-000.

Applicants: Rockhaven Wind Project, LLC.

Description: 205(d) Rate Filing: Rockhaven Wind Project, LLC Revised MBR Tariff to be effective 7/23/2025.

Filed Date: 7/22/25.

Accession Number: 20250722-5080.

Comment Date: 5 p.m. ET 8/12/25.

Docket Numbers: ER25-2933-000.

Applicants: Rocky Ridge Wind Project, LLC.

Description: 205(d) Rate Filing: Rocky Ridge Wind Project, LLC Revised MBR Tariff to be effective 7/23/2025.

Filed Date: 7/22/25.

Accession Number: 20250722-5081.

Comment Date: 5 p.m. ET 8/12/25.

Docket Numbers: ER25-2934-000.

Applicants: Seven Cowboy Wind Project, LLC.

Description: 205(d) Rate Filing: Seven Cowboy Wind Project, LLC Revised MBR Tariff to be effective 7/23/2025.

Filed Date: 7/22/25.

Accession Number: 20250722-5084.

Comment Date: 5 p.m. ET 8/12/25.

Docket Numbers: ER25-2935-000.

Applicants: Smoky Hills Wind Farm, LLC.

Description: 205(d) Rate Filing: Smoky Hills Wind Farm, LLC Revised MBR Tariff to be effective 7/23/2025.

Filed Date: 7/22/25.

Accession Number: 20250722-5085.

Comment Date: 5 p.m. ET 8/12/25.

Docket Numbers: ER25-2936-000.

Applicants: Smoky Hills Wind Project II, LLC.

Description: 205(d) Rate Filing: Smoky Hills Wind Project II, LLC Revised MBR Tariff to be effective 7/23/2025.

Filed Date: 7/22/25.

Accession Number: 20250722-5086.

Comment Date: 5 p.m. ET 8/12/25.

Docket Numbers: ER25-2937-000.

Applicants: Thunder Ranch Wind Project, LLC.

Description: 205(d) Rate Filing: Thunder Ranch Wind Project, LLC Revised MBR Tariff to be effective 7/23/2025.

Filed Date: 7/22/25.

Accession Number: 20250722-5087.

Comment Date: 5 p.m. ET 8/12/25.

Docket Numbers: ER25-2938-000.

Applicants: White Cloud Wind Project, LLC.

Description: 205(d) Rate Filing: White Cloud Wind Project, LLC Revised MBR Tariff to be effective 7/23/2025.

Filed Date: 7/22/25.

Accession Number: 20250722-5088.

Comment Date: 5 p.m. ET 8/12/25.

Docket Numbers: ER25-2939-000.

Applicants: Whitney Hill Wind Power, LLC.

Description: 205(d) Rate Filing: Whitney Hill Wind Power, LLC Revised MBR Tariff to be effective 7/23/2025.

Filed Date: 7/22/25.

Accession Number: 20250722-5091.

Comment Date: 5 p.m. ET 8/12/25.

Docket Numbers: ER25-2940-000.

Applicants: Solar DG NM Amalia, LLC.

Description: Initial Rate Filing: Market-Based Rate Application to be effective 9/21/2025.

Filed Date: 7/22/25.

Accession Number: 20250722-5097.

Comment Date: 5 p.m. ET 8/12/25.

Docket Numbers: ER25-2941-000.

Applicants: NextEra Energy Transmission MidAtlantic, Inc.

Description: 205(d) Rate Filing: NEET MidAtlantic submits Revisions to OATT, Att. H-33 & H-33A to be effective 7/23/2025.

Filed Date: 7/22/25.

Accession Number: 20250722-5098.

Comment Date: 5 p.m. ET 8/12/25.

Docket Numbers: ER25-2942-000.

Applicants: Alabama Power Company, Georgia Power Company, Mississippi Power Company.

Description: Tariff Amendment: Alabama Power Company submits tariff filing per 35.15: Origis Development (Pelham Solar + Storage) LGIA Termination Filing to be effective 7/22/2025.

Filed Date: 7/22/25.

Accession Number: 20250722-5100.

Comment Date: 5 p.m. ET 8/12/25.

Docket Numbers: ER25-2943-000.

Applicants: Tri-State Generation and Transmission Association, Inc.

Description: 205(d) Rate Filing: Amendment to Service Agreement FERC No. 842 to be effective 7/1/2025.

Filed Date: 7/22/25.

Accession Number: 20250722-5104.

Comment Date: 5 p.m. ET 8/12/25.

Take notice that the Commission received the following public utility holding company filings:

Docket Numbers: PH25-13-000.

Applicants: Enbridge Inc.

Description: Enbridge Inc. submits FERC-65A Notice of Change in Fact to Waiver Notification.

Filed Date: 7/18/25.

Accession Number: 20250718-5188.

Comment Date: 5 p.m. ET 8/8/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: July 22, 2025.
Carlos D. Clay,
Deputy Secretary.

[FR Doc. 2025-14069 Filed 7-24-25; 8:45 am]

BILLING CODE 6717-01-P